DEPARTMENT OF ENERGY

Federal Energy Regulatory Commission

[Docket No. CP25-79-000]

ANR Pipeline Company; Notice of Schedule for the Preparation of an Environmental Assessment for the Heartland Project

On February 20, 2025, ANR Pipeline Company (ANR) filed an application in Docket No. CP25-79-000 requesting a Certificate of Public Convenience and Necessity pursuant to Section 7(c) and Authorization pursuant to Section 7(b) of the Natural Gas Act to construct, replace, and operate certain natural gas pipeline facilities. The proposed project is known as the Heartland Project (Project) and would expand ANR's existing system to provide up to 473,000 dekatherms per day of incremental firm transportation service to meet market demand for increased natural gas supply in the Midwest United States.

On March 6, 2025, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹ The EA will be issued for a 30-day comment period.

¹ For tracking purposes under the National Environmental Policy Act, the unique identification number for documents relating to this environmental review is EAXX-019-20-000-1743174609.

Schedule for Environmental Review

Issuance of EA | October 10, 2025.
90-day Federal Authorization Decision Deadline ² | January 8, 2026.

If a schedule change becomes necessary, additional notice will be provided so that the relevant agencies are kept informed of the Project's progress.

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

Project Description

The Project consists of: (1) installing approximately 68.9 miles of new pipeline looping; (2) replacing approximately 1.5 miles of existing 18-inch- and 22-inch-diameter pipeline with a 30-inch diameter pipeline; (3) constructing three new greenfield compressor stations totaling 25,150 horsepower (hp) and installing one 19,500 hp compressor unit at one existing compressor station; (4) installing two greenfield meter stations and upgrading/expanding three existing meter stations; and (5) constructing or modifying other existing appurtenant facilities. The proposed Heartland Project is located in Brown, Racine, Sheboygan, Waukesha, and Winnebago Counties, Wisconsin, and Bureau, Kendall, Kane, McHenry, and Will Counties, Illinois.

Background

On July 22, 2024, the Commission issued a Notice of Scoping Period Requesting Comments on Environmental Issues for the Planned Heartland Project and Notice of Public Scoping Session (Notice of Scoping). The Notice of Scoping was issued during the pre-filing review of the Project in Docket No. PF24-3-000 and was sent to affected landowners; federal, state, and local government agencies; elected officials; environmental and public interest groups; Native American tribes; other interested parties; and local libraries and newspapers.

In response to the Notice of Scoping, the Commission received comments from the U.S. Environmental Protection Agency, McHenry County, the City of New Berlin, 10 individuals, including potentially affected landowners, and 20 letters in support of the Project. The primary topics raised by the commenters are the potential for impacts on threatened/endangered species, conservation areas, land use, water resources, cultural resources, climate change, socioeconomics, noise, air quality, safety, health effects, general support for the Project, and the consideration of alternative routes and compressor station locations. All substantive comments will be addressed in the EA.

The U.S. Environmental Protection Agency; Wisconsin Department of Agriculture, Trade, and Consumer Protection; and Wisconsin Department of Natural Resources are cooperating agencies in the preparation of the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Additional information about the Project is available from the Commission's Office of External Affairs at (866) 208-FERC or on the FERC website (www.ferc.gov). Using the “eLibrary” link, select “General Search” from the eLibrary menu, enter the selected date range and “Docket Number” excluding the last three digits (i.e., CP25-79), and follow the instructions. For assistance with access to eLibrary, the helpline can be reached at (866) 208-3676, TTY (202) 502-8659, or at FERCOnlineSupport@ferc.gov.

The eLibrary link on the FERC website also provides access to the texts of formal documents issued by the Commission, such as orders, notices, and rule makings.

Dated: April 11, 2025.
Debbie-Anne A. Reese,
Secretary.

[FR Doc. 2025-06615 Filed 4-16-25; 8:45 am]

BILLING CODE 6717-01-P